DEPARTMENT OF TRANSPORTATION

Federal Transit Administration

[Docket No. FTA-2024-0013]

National Transit Database Reporting Changes and Clarifications for Report Years 2025 and 2026

AGENCY: Federal Transit Administration (FTA), Department of Transportation (DOT).

ACTION: Final notice; response to comments.

SUMMARY: This Notice finalizes and responds to comments on proposed changes to the National Transit Database (NTD) reporting requirements published in the Federal Register on October 31, 2024.

DATES: Some changes will apply in calendar year (CY) 2025 while other changes will apply in NTD report year (RY) 2025 or 2026.

FOR FURTHER INFORMATION CONTACT: Chelsea Champlin, National Transit Database Program Manager, FTA Office of Budget and Policy, 202-366-1651, Chelsea.Champlin@dot.gov.

SUPPLEMENTARY INFORMATION:

Table of Contents

I. Background

II. Proposed Changes to the NTD Reporting Requirements and Responses to Comments

A. Additional Data Within Publicly Hosted General Transit Feed Specification (GTFS) Datasets

B. Changes to Passenger Stations and Maintenance Facilities Reporting

C. A-20 NTD/TERM Alignment Form

D. Safety and Security—Cyber Security Event Reporting

E. Safety and Security—Disabling Damage

F. Reduced Reporter Exemption for Operators Serving Predominantly Rural Areas

G. Voluntary Reporter Tag

H. General and Miscellaneous Comments

I. Background

The National Transit Database (NTD) is the nation's primary database for statistics on the transit industry. Pursuant to 49 U.S.C. 5334(k), FTA published a notice in the Federal Register on October 31, 2024, (89 FR 86907), seeking public comment on seven (7) proposed NTD reporting changes and clarifications. The comment period originally closed on December 30, 2024, but was reopened until January 29, 2025, to accommodate further input from commenters. FTA received timely comments from thirty (30) unique commenters. In addition, FTA received one comment several months after the comment period closed. This Notice does not address this comment, as it was not timely received.

FTA proposed the updates to NTD reporting requirements to improve reporting standards and ensure data alignment and consistency with FTA's final rule for State Safety Oversight published on October 18, 2024 (89 FR 83981).

II. Proposed Changes to the NTD Reporting Requirements and Responses to Comments

A. Additional Data Within Publicly Hosted General Transit Feed Specification (GTFS) Datasets

Agency ID/NTD ID Alignment: FTA received 18 comments on FTA's proposal to require reporters to align the agency_id field to the agency's National Transit Database Identification Number (NTD ID), with 15 commenters opposed to the change and three supportive.

One of the commenters supporting the proposal stated that it would be feasible to implement the change by the proposed implementation timeline.

Many commenters who opposed the proposal stated that the change would pose challenges, including for agencies that have multiple GTFS datasets or different brandings, rural agencies that share a regional dataset, and third-party users of GTFS data. Several commenters argued that the proposal would increase burden for reporting agencies. Some stated that the change would necessitate software or vendor changes and that software products might not support the change. Many commenters argued that the proposal would be inconsistent with the global GTFS specification and GTFS best practices, with some stating that it would require agencies to create a separate GTFS file just for NTD purposes. One commenter stated that the proposal might increase burden for agencies with NTD IDs that contain leading zeros, and another similarly noted that agency_id is a text field, not a numeric field.

Several commenters suggested that instead of adopting the proposed change, FTA should either (1) include NTD ID as a separate field within the agency.txt, routes.txt, and/or feed_info.txt files, or (2) require a distinct NTD ID.txt file. Commenters argued that these alternatives were preferable to FTA's proposal, as they would minimize disruption to existing processes. One commenter stated that agencies should have flexibility to choose between these two options. Several commenters recommended that FTA should require an NTD ID text input in a separate field or in a separate file outside the GTFS specification, and another voiced that FTA could use an already existing GTFS feed repository to align agency_id with NTD ID. Three commenters stated that FTA should engage with the International Data Organization for Transport (MobilityData) and the GTFS community regarding GTFS specification discussions.

FTA Response: FTA recognizes the concerns regarding potential disruptions to current GTFS workflows and acknowledges that agency identification methods vary across different implementations. FTA also appreciates the alternatives proposed by commenters and the flexibility they would provide. As such, FTA will not adopt the proposed change. FTA will instead internally conduct the alignment of agency_id and NTD ID through the existing P-50 form (General Transit Feed Specification Data for Fixed Route Modes). This form, used by NTD reporters with fixed route modes, already collects GTFS feeds, agency_id, and organization name. FTA can leverage this data to align agency_id with NTD ID, notably for reporters that share GTFS feeds. To support this alignment effort and ensure good data quality collection, FTA will enhance the P-50 form by:

• Providing clearer guidance on the contents needed for each field.

• Encouraging proper formatting and submission of GTFS feed URLs or GTFS files.

Since the P-50 form is already in use, there will not be any additional burden on reporters, nor will there be disruptions to existing GTFS-based tools or workflows. FTA believes this approach addresses its underlying data alignment objective while remaining responsive to the operational realities and feedback shared by stakeholders. FTA will work with reporters to resolve discrepancies and maintain data accuracy.

FTA clarifies that it actively engages with MobilityData and welcomes feedback from them and the GTFS community as whole when FTA proposes changes to the NTD requirements through the public notice and comment process.

agency_id as a Non-Conditional Requirement: FTA received seven comments regarding its proposal to make the agency_id data field a non-conditional requirement. Six comments were in support, and one was opposed. The commenter who opposed the change stated that requiring the agency_id field in routes.txt and fare_attributes.txt was unnecessary, since the information is already in the GTFS feeds.

FTA Response: FTA appreciates the feedback received. FTA disagrees that this requirement is unnecessary and clarifies that there are reporters to the NTD with GTFS feeds that contain multiple different agency_id entries. The inclusion of agency_id in the routes.txt and fare_attributes.txt files would help FTA, and its data users, to better leverage the data received and distinguish between reporters in these cases. FTA will move forward with this change as proposed. The change will take effect beginning in RY 2025.

Shapes.txt: FTA received 11 comments in support of the proposed change to make the shapes.txt file mandatory. Commenters argued that this change will enhance trip planning, as well as data analysis, quality, and visualization. A few commenters noted that they already include this file in their GTFS feeds, with one noting that it is nearly ubiquitous in their State. One commenter, although in support of the change, stated that the quality of the shapes.txt file can vary. One commenter suggested that FTA should ensure that the data provided by the agency is the definitive source of this file, and two commenters recommended that FTA include guidance from MobilityData to assist agencies with generating a shapes.txt file.

FTA Response: FTA appreciates the support for this change and recognizes the value of providing agencies with guidance to facilitate compliance. FTA agrees that inclusion of shapes.txt in GTFS feeds submissions will enhance trip planning for riders by enabling more accurate route visualizations in trip planners, improve data completeness in the NTD and other transit planning tools, and support stronger decision-making for agencies, researchers, and policymakers. In response to the comments received, FTA will adopt the change as proposed and will link the MobilityData Guide as a reference on the NTD website to assist transit agencies with generating shapes.txt files. Regarding the possible variance in the quality of shapes.txt files, FTA will work with reporters on a timely basis to ensure accurate and precise reporting. FTA agrees that maintaining accurate data is critical. FTA already conducts data validation processes and requires executive-level certification from reporter leadership (i.e. CEO certification on the D-10 form) as part of NTD reporting. This certification serves as an assurance that the data submitted, including any GTFS files such as shapes.txt, is accurate and represents a definitive source of information from the agency. These procedures help uphold data integrity and support the use of GTFS data in analysis and reporting. FTA is adopting this change as proposed. FTA remains committed to supporting transit agencies throughout these transitions and will provide guidance as necessary. The change will go into effect in RY 2025 for full reporters and RY 2026 for reduced, rural, and tribal reporters.

B. Changes to Passenger Stations and Maintenance Facilities Reporting

FTA received five comments in support of FTA's proposal to eliminate the Stations and Maintenance Facilities (A-10) form and collect all station information on a single, consolidated Transit Asset Management Facilities (A-15) form. Commenters voiced that the proposal would result in more efficient reporting, reduced burden, and fewer reporting errors. One commenter expressed specific support for FTA's proposal to include maintenance facilities on the A-15, regardless of capital responsibility, while maintaining the exception for incidental use.

Two commenters responded to FTA's solicitation of feedback on the definition of “passenger station” for purposes of uniform reporting on the A-15 form. Both commenters supported FTA's proposal that stations spanning both sides of the right-of-way would be inventoried as a single facility. However, one commenter expressed concern that the requirement for a station operating in mixed traffic to have a “significant structure” (i.e., with a minimum roof square footage of 150 feet) would exclude certain streetcar and bus rapid transit (BRT) stops that lack a canopy. They requested FTA consider revising the definition to include such stops. The second commenter urged FTA to consider including bus shelters in future guidance updates.

One commenter suggested potential refinements to NTD definitions and policy guidance regarding maintenance facilities reporting. Specifically, the commenter requested that FTA add infrastructure maintenance facility guidelines to the NTD Policy Manual with specific categorizations for certain maintenance activities.

FTA Response: FTA appreciates the support from commenters and agrees that consolidation of the A-10 and A-15 forms would result in more efficient and accurate NTD reporting. Additionally, FTA recognizes the commenter's concern regarding the potential exclusion of mixed-traffic transit services, such as certain streetcar and BRT stops from the definition of “passenger station” in current guidance. FTA would require additional research to assess and quantify the implications of expanding the definition and potential impacts on data collection practices. FTA will retain the current definition, which includes a minimum roof size criterion. However, FTA will consider this feedback for a potential future update to explore refinements to the definition of “passenger station.” FTA acknowledges the additional recommendations regarding potential refinements to NTD definitions and policy guidance and will consider them in future updates to the NTD reporting requirements as well. After consideration of comments received, FTA will proceed with the changes as proposed, which will take effect at the beginning of RY 2025.

C. A-20 NTD/TERM Alignment Form

Three commenters addressed FTA's proposed changes to the A-20 Transit Way Mileage form. One commenter supported the changes generally but noted that the proposal would conditionally increase, or slightly increase, the reporting burden for transit agencies. One commenter requested clarification on the specific components that constitute the “Pump Rooms” and “Fan Plants” proposed categories. The commenter also expressed concern that these changes would impact reporting on the A-15 Transit Asset Management Facilities Inventory form. Another commenter requested clarification on whether FTA defines “Fan Plants” to mean individual fans or systems. FTA did not receive any specific comments on the proposed new “Track-Turntable” category, or on the proposed clarification related to reporting the decade of construction for rebuilt assets.

FTA Response: FTA appreciates the support received for the proposed changes to the “Track”, “Power and Signal”, and “Construction” sections of the A-20 form and will proceed with the changes as proposed. FTA acknowledges the concern regarding a potential increase in reporting burden for transit agencies. However, FTA believes that aligning the A-20 form with the Transit Economic Requirements Model (TERM) will enhance consistency and reliability of the data collected. Both NTD and TERM are inputs in the Conditions and Performance Report to Congress. This alignment enables the production of high-quality data products and public data releases that support decision makers in Congress. Further, FTA will provide guidance on what constitutes a distinct “Pump Room” or “Fan Plant.” The requirement to collect counts of “Pump Rooms” and “Fan Plants” on the A-20 form would not impact the A-15 form. FTA recognizes agencies have been inventorying Pump Rooms and Fan Plants on their A-15 forms as “Other Administrative and Maintenance” facilities. Pump rooms and Fan Plants are high value and discrete assets that can be easily counted with minimal burden to reporters. The proposed changes are also supported by the overall objective of the Transit Asset Management (TAM) Program to plan for the replacement or repair of transit capital assets. FTA further clarifies that the Power and Signal section of the A-20 form is not used for performance measures on the A-90 Transit Asset Management Performance Measure Targets form, and as such, there is no concern about data being double-counted. The changes will take effect at the beginning of RY 2025.

D. Safety and Security—Cyber Security Event Reporting

FTA received eight comments on the proposed clarifications regarding cyber security event reporting. Four commenters opposed the proposals generally, three were supportive, and one requested additional clarification.

A few commenters voiced concern about cyber security event reporting to the NTD generally. One commenter stated that their IT department gathers cyber security events for the county as a whole and does not distinguish transit specific events, thus making it difficult to separate the data in an accurate and timely manner for NTD reporting. Three commenters expressed concern that requiring cyber security event reporting would be duplicative and burdensome, as some agencies report cyber security events to other Federal agencies such as the Transportation Security Administration (TSA) and Cybersecurity and Infrastructure Security Administration (CISA). These commenters expressed particular concern that FTA's proposed clarifications would require reporting of “substantial damage” that includes disruptions to systems that do not directly impact safety or operational technology.

These commenters urged FTA to remove cyber security reporting from the NTD and suggested FTA instead coordinate with other Federal agencies to obtain cyber security event data. One commenter additionally suggested FTA harmonize definitions and requirements with such agencies. A separate commenter expressed concern about FTA's communication about cyber security reporting requirements and urged FTA to conduct outreach with the industry before proposing cyber security reporting requirements.

One commenter sought clarification on the reporting responsibility for cyberattacks targeting the dispatch/communications system of newer demand response technology platforms, particularly when these platforms assign rides to both dedicated and non-dedicated vehicles and facilitate two-way data exchange, including GPS tracking of passenger pickups and drop-offs.

FTA Response: FTA will proceed with the changes to cyber security event reporting as proposed. While FTA understands commenters' concerns about cyber security reporting generally, FTA clarifies that the NTD already collects cyber security events; this is not a new reporting requirement. In its proposal, FTA merely sought to clarify that “infrastructure” for purposes of cyber security major event reporting includes information, computer, and telecommunications systems that exist in any transit facilities (i.e., in the facilities reported on annual form A-15). It also proposed clarifying which mode to select when reporting a cyber security event, and to provide additional guidance on how to apply the “substantial damage” threshold to cyber security events.

FTA recognizes concerns regarding agencies that aggregate cyber security data at the county level rather than distinguishing transit-specific events. While FTA expects agencies to report transit-related cyber security incidents, FTA acknowledges that some agencies may require additional time to refine their data collection processes. FTA will work with affected agencies to support implementation and meet reporting requirements. If an event affects a county-wide facility and transit-specific details cannot be separated, NTD reporting may include aggregate data about the incident. For shared infrastructure, a reportable cyber security event is one that occurs on infrastructure (i.e., underlying framework) in any transit facility, meets a major event reporting threshold, and is due to malicious actions of a third-party.

FTA also acknowledges concerns regarding potential duplication of cyber security event reporting to other Federal agencies, such as TSA and CISA. While FTA understands that transit agencies may already report certain cyber security incidents to other entities. FTA reiterates again that NTD reporting of cyber security events is not new. FTA proposed clarifications to the existing requirements to give reporters clear guidance on cyber event reporting. These clarifications are intended to improve data collection; strengthen FTA's policy development, safety oversight, and safety risk management programs; and provide NTD data users greater insight into cyber security events within public transit. Cyber security threats can directly impact the operational safety of transit services. It is therefore critical to FTA's statutory safety mission that the NTD collect data about these events. FTA recognizes its proposed clarifications could result in reporting of some disruptions to systems that impact safety or operational technology only indirectly. However, consistent reporting of this data through the NTD enables FTA to identify trends, work with agencies and reporters to respond to emerging threats, and develop targeted technical assistance and policy guidance. FTA therefore declines to remove cyber security reporting requirements from NTD reporting. FTA also intends to provide guidance and work with reporters on a timely basis to ensure this reporting is minimally burdensome. FTA notes that it conducted industry outreach on its clarification of cyber security reporting requirements through the public notice and comment process associated with these proposals. FTA has thoroughly considered all feedback received prior to adopting this change.

FTA appreciates the comment received regarding the reporting responsibility for cyberattacks. FTA is not seeking changes regarding the entities responsible for reporting cyberattacks. As is currently required, the primary reporter or contract holder should be the one that reports the cyber security event.

The clarifications will take effect beginning in calendar year 2025 as soon as practicable following publication of this final notice.

E. Safety and Security—Disabling Damage

FTA received five comments on its proposals regarding capturing the “disabling damage” event category defined in FTA's State Safety Oversight (SSO) final rule at 49 CFR part 674. FTA proposed two options to capture this data—Option 1 would replace the “substantial damage” threshold with “disabling damage” for major safety event and personal security event reporting. Option 2 would add “disabling damage” as a subset of “substantial damage” for rail collision events.

Two commenters supported Option 1. Of these, one stated that replacing the threshold with “disabling damage” would better align with requirements of the SSO final rule and State Safety Oversight Report (SSOR) system. Three commenters were in support of Option 2, arguing that it would assist State Safety Oversight agencies (SSOAs) and other stakeholders better understand collision events and hazards. One commenter also stated that this option would enable SSOAs to better manage their risk-based inspection programs.

One transit industry association commenter stated that most of its members supported Option 2, as it would align with current NTD reporting requirements and have the lowest burden on reporters. However, the commenter expressed several concerns with both proposed options due to the potential increased administrative burden, complexity, and confusion, especially for bus-only and multi-modal agencies. This commenter suggested FTA provide clear guidance about several aspects of the proposed requirement, including confirming that the “substantial damage” threshold still applies to bus modes and system security events, and clarifying which threshold applies when agencies add rail modes to their system in the future. It also expressed concern that multi-modal agencies would require extensive assistance in managing differing damage thresholds for bus and rail modes. The commenter also requested guidance about “disabling damage” to infrastructure and stated that FTA's proposals would conflict with State Safety Oversight agency program standards. It recommended FTA delay implementation of this new requirement by 12 months to ease the transition for reporters.

FTA Response: FTA will proceed with Option 2. FTA notes that most commenters supported Option 2, including the majority of members of a transit industry association. FTA agrees with commenters who stated that this change will support SSOAs and other stakeholders to better understand collision events. This change is intended to support SSO program requirements by ensuring FTA and SSOAs can more accurately identify major NTD events that require investigation. FTA also agrees that adding “disabling damage” as a subset of substantial damage (Option 2) aligns more closely with current NTD reporting, proving a lower burden on reporters than Option 1. Option 2 will also prevent data reconciliation issues and threshold changes that could impact other programs. The proposed changes will be incorporated into the NTD Manual.

FTA acknowledges the concerns regarding the potential for increased administrative complexity, particularly for bus-only and multi-modal agencies. To clarify, the “substantial damage” threshold remains applicable to bus modes and system security events as is written in the current Safety and Security reporting manual. The introduction of “disabling damage” as a subset of substantial damage will apply only to rail vehicle types. The threshold does not include infrastructure damage.

FTA agrees with the commenter who suggested FTA provide clear guidance in the NTD Reporting Manual about the new threshold and how it applies to different modes. FTA will incorporate guidance in the NTD reporting manual on this topic, including for multi-modal agencies to ensure they can understand and effectively manage the differing damage thresholds for bus and rail modes. Importantly, thresholds will not change under the selected approach, and historic reconciliation will not be negatively impacted. FTA acknowledges that individual SSOAs may maintain internal thresholds and criteria that may differ from “disabling damage.” However, the NTD is a national data reporting program, and its thresholds are established to ensure consistency across all its reporters. The proposed adoption of `disabling damage' is grounded in the definition in 49 CFR part 674. This change is not intended to alter or to supersede individual SSOA program standards. FTA clarifies that the changes to the NTD reporting threshold do not affect an SSOA's authority to investigate events that meet their own thresholds, standards, and criteria.

FTA declines to delay implementation of this requirement by 12 months given the importance of capturing the new “disabling damage” event category defined in the SSO final rule (49 CFR part 674) in a timely manner. The SSO rule has been in effect since January 1, 2025, and as of March 20, 2025, FTA has been enforcing its provisions (90 FR 10464). Further delaying alignment of NTD data with the SSO rule would lead to safety data inconsistencies. FTA strives to provide accurate data to users and decision makers, and the timely collection of disabling damage will enable FTA to gather accurate data and provide targeted technical assistance. The implementation of these changes will proceed as proposed beginning in calendar year 2025, following publication of this final notice, and FTA will provide technical assistance and updated guidance to facilitate a smooth transition.

F. Reduced Reporter Exemption for Operators Predominantly Serving Rural Areas

FTA received several comments regarding the proposed exemption for operators predominantly serving rural areas. Five commenters supported the proposal, with some stating that it would reduce burden on rural providers. One of these commenters agreed that the waiver should be automatic but recommended that it be expanded to operators that meet four of the five proposed criteria.

One commenter expressed concern that the waiver would result in potential loss of data reported to FTA. However, the commenter stated that the number of agencies qualifying for the waiver and the resulting data loss appeared to be small. The commenter stated that the Reduced Reporting form (RR-20) contains the most common reporting errors and recommended FTA provide incentives for agencies to become full reporters voluntarily. Although not explicitly in response to this proposal, one commenter expressed concern about their reporter type, specifically that they receive funding under 49 U.S.C. 5311 but report to the NTD urban module.

FTA Response: FTA will adopt the waiver as proposed. FTA reiterates that the number of agencies thought to be affected by this change is small, estimated to be between 10 and 15. FTA understands the importance of maintaining robust transit data and acknowledges concerns regarding the potential reduction in available data resulting from this change. While FTA remains committed to ensuring comprehensive data collection, it also seeks to balance reporting requirements with the administrative burden on smaller transit agencies.

Furthermore, FTA appreciates the recommendations regarding incentives for voluntary full reporting and will consider it in the future. FTA recognizes the commenter's concern regarding the RR-20 form containing common reporting errors. FTA will work closely with transit agencies to ensure the proper submission of the RR-20 form is minimally burdensome. At this time, FTA will not provide additional incentives for voluntary reporting beyond the benefit of reduced reporting burden through the implementation of this waiver. FTA reiterates that there is a built-in incentive for full reporting in that certain data submitted by full reporters is used in the calculation of the Section 5307 formula apportionments for urbanized areas (UZAs). Depending on the size of the UZA, the data would either be used in the calculation of the incentive tier of the formula or, if the UZA qualifies, through the Small Transit Intensive Cities (STIC) factors involving Passenger Miles Travelled (PMT). FTA also appreciates the recommendation to expand eligibility for the reporting waiver. FTA will not expand the eligibility, as it believes applying all five criteria strikes an appropriate balance of positively identifying reporters who predominantly serve rural areas without carving out too broad an exemption, while maintaining consistency and data integrity. In response to the commenter that expressed concern with its reporter type, FTA confirms it will work closely with transit agencies to discuss their reporting status and how this waiver may apply to them. These changes will take effect at the beginning of RY 2025.

G. Voluntary Reporter Tag

FTA received one comment expressing support for the proposed requirement that NTD reporters identify their voluntary reporting status.

FTA Response: FTA appreciates the support and will move forward with this change as proposed. The proposed changes will take effect beginning RY 2025.

H. General and Miscellaneous Comments

FTA received two comments requesting that FTA delay implementation of all proposed reporting requirements. One commenter requested a 12-month extension due to the potential burden for agencies to implement the changes. The second commenter requested all requirements be delayed until RY 26, given the timing of FTA's proposals and the notice and comment process.

FTA received several comments outside the scope of its proposals, including recommendations that FTA should make the feed_info.txt. file mandatory and provide certain additional guidance about hosting and reporting GTFS feeds. One commenter asked FTA to collect more accurate data distinguishing trespassers from suicides, and another requested certain changes to the NTD financial data reporting requirements.

FTA Response: FTA declines to extend the implementation timeline for the reporting changes and clarifications. Certain changes, including the predominantly rural reporting waiver and the consolidation of the A-10 and A-15 forms, are intended to reduce reporting burden. FTA acknowledges that implementation of some of the new NTD reporting changes may present challenges for some agencies. However, FTA does not believe that this warrants a delay in implementation. FTA reiterates that the changes to cyber security reporting are clarifications to NTD reporting requirements that already exist. In addition, FTA reiterates the need to align NTD reporting with the new definition of “disabling damage” under 49 CFR part 674 as quickly as practicable. As stated previously, FTA will provide guidance and work closely with reporters as necessary to ensure the transition to implement these changes is minimally burdensome. FTA encourages reporters to engage with FTA for any technical assistance or clarification during the transition. FTA therefore declines to provide an extension and will implement each change according to the timeline originally proposed.

FTA acknowledges the recommendations that are outside the scope of the proposal. FTA will consider this feedback in future updates to the NTD reporting requirements.

Tariq Bokhari,
Acting Administrator.

[FR Doc. 2025-12813 Filed 7-9-25; 8:45 am]

BILLING CODE 4910-57-P